DEPARTMENT OF ENERGY

Federal Energy Regulatory Commission

[Docket Nos. PH06-40-000; PH06-41-000; PH06-42-000; PH06-43-000; PH06-44-000; PH06-45-000; PH06-46-000; PH06-47-000]

Nicor Inc.; OGE Energy Corporation; Scottish Power Place; GAMCO Investors; The Catalyst Group; New Jersey Resources Corporation; Green Mountain Power Corporation; WGL Holding, Inc.; Notice of Effectiveness of Holding Company and Transaction Exemptions and Waivers

July 18, 2006.

Take notice that in June 2006 the holding company and transaction exemptions and waivers requested in the above-captioned proceedings are deemed to have been granted by operation of law pursuant to 18 CFR 366.4.

Magalie R. Salas,
Secretary.

[FR Doc. E6-11881 Filed 7-25-06; 8:45 am]

BILLING CODE 6717-01-P